POSTAL SERVICE

Change in Rates of General Applicability for Competitive Products; Correction

AGENCY: Postal Service. ™

ACTION: Notice; correction.

SUMMARY: The Postal Service published in the Federal Register of February 24, 2009 (74 FR 8434), in accordance with 39 U.S.C. 3632(b)(2), a Notice document providing the February 3, 2009 Decision of the Governors of the United States Postal Service on Changes in Rates and Classes of General Applicability for Certain Competitive Products (Governors Decision No. 09-01), and a record of the proceedings in connection with the Decision. The Decision did not include planned increases to pickup on demand fees for Express Mail®, Priority Mail®, GXG, Express Mail International (EMI), and Priority Mail International (PMI) services to conform to the change in the Pickup on Demand ™ service fee for Parcel Post® Single-Piece, which was raised in Postal Regulatory Commission Docket No. R2009-2 from $14.75 to $15.30. This document accordingly sets forth a correction to the prior notice to give effect to the planned change in Pickup on Demand fees for competitive services, to include Express Mail, Priority Mail, GXG, EMI, and PMI services.

DATES: This correction is effective April 13, 2009 and is applicable on May 11, 2009.

FOR FURTHER INFORMATION CONTACT: Anthony Alverno, 202-268-2997.

SUPPLEMENTARY INFORMATION:

Background

On February 3, 2009, the Governors of the Postal Service established prices and classification changes for competitive products, pursuant to their authority under 39 U.S.C. 3632. On February 24, 2009, the Governors' Decision and the record of proceedings in connection with the Decision were published in the Federal Register as required by 39 U.S.C. 3632(b)(2). Following the adoption of the Governors' Decision, it was discovered that pickup on demand fees for Express Mail®, Priority Mail®, GXG, EMI, and PMI services set out in sections 2105.6, 2110.6, 2205.6, and 2215.7 of the Mail Classification Schedule were not identified as increasing from $14.75 to $15.30. This increase in the fee when combined with these services conforms to the increase in fees for Pickup on Demand service provided in connection with Parcel Post Single-Piece service. The fee for Pickup on Demand provided in connection with Parcel Post Single-Piece was changed in Postal Regulatory Commission (PRC) Docket No. R2009-2 at section 1405.6 of the Mail Classification Schedule and is to become effective on May 11, 2009. See United States Postal Service Notice of Price Adjustment, PRC Docket No. R2009-2 (filed February 10, 2009); PRC Order No. 191 (March 16, 2009).¹

¹ Notice of the change in the pickup on demand fee for domestic Express Mail and Priority Mail was published with other changes to the Domestic Mail Manual in the Federal Register on February 23, 2009 (74 FR 8009).

Postal Service management has advised the Governors of this matter and has provided them with information concerning the corrected fees. Concurrently with the submission of this notice to the Federal Register, the Postal Service will file with the PRC a corresponding notice of correction in PRC Docket No. CP2009-23.

Need for Correction

The rates for Pickup on Demand service in sections 2105.6, 2110.6, 2205.6, and 2215.7 of the Mail Classification Schedule, attached to Governors' Decision No. 09-01, did not incorporate the correct fees for pickup on demand services combined with Express Mail, Priority Mail, GXG, Express Mail International (EMI), and Priority Mail International (PMI) services.

Correction

Corrections to the Mail Classification Schedule, which is marked as Attachment B to Governors' Decision 09-01, published in the Federal Register of February 24, 2009, should read as follows:

Mail Classification Schedule

* * * * *

2001 COMPETITIVE PRODUCT DESCRIPTIONS

* * * * *

2100 DOMESTIC PRODUCTS

2105 Express Mail

* * * * *

2105.6 Prices

* * * * *

Pickup on Demand

Add $15.30 for each Pickup on Demand stop.

* * * * *

2110 Priority Mail

* * * * *

2110.6 Prices

Retail Pickup on Demand

Add $15.30 for each Pickup on Demand stop.

* * * * *

Commercial Base Priority Mail Zone/Weight

* * * * *

Commercial Pickup On Demand

Add $15.30 for each Pickup on Demand stop.

* * * * *

Commercial Plus Priority Mail Zone/Weight

* * * * *

Commercial Pickup on Demand

Add $15.30 for each Pickup on Demand stop.

2200 INTERNATIONAL PRODUCTS

2205 Outbound International Expedited Services

* * * * *

2205.6 Prices

* * * * *

Pickup on Demand

Add $15.30 for each Pickup on Demand stop.

* * * * *

2215 Outbound Priority Mail International

* * * * *

2215.7 Prices

Pickup on Demand

Add $15.30 for each Pickup on Demand stop.

* * * * *

Stanley F. Mires,
Chief Counsel, Legislative.

[FR Doc. E9-8501 Filed 4-9-09; 4:15 pm]

BILLING CODE 7710-12-P